POSTAL SERVICE

39 CFR Part 111

New Mailing Standards for the Separation of Hazardous Materials

AGENCY: Postal Service™.

ACTION: Interim final rule.

SUMMARY: The Postal Service is revising Publication 52, Hazardous, Restricted, and Perishable Mail (Pub 52), to incorporate new requirements for mailers to separate, into identifiable containers, all hazardous material (HAZMAT) requiring hazardous marks or labels from other mail when tendering to the Postal Service. The Postal Service is also adopting related standard operating procedures for the Postal Service's acceptance, dispatch, and mail processing personnel to maintain the integrity of HAZMAT separation. Additionally, the Postal Service will now require pre-owned, damaged, or defective electronic devices containing or packed with lithium batteries to be mailed only via surface transportation and to bear specified markings.

DATES:

Effective date: This rule is effective June 6, 2022.

Comments due date: Comments must be received on or before July 6, 2022.

ADDRESSES: Mail or deliver written comments to the Manager, Product Classification, U.S. Postal Service, 475 L'Enfant Plaza SW, Room 4446, Washington, DC 20260-3436. Email comments containing the name and address of the commenter may be sent to PCFederalRegister@usps.gov, with a subject line of “New Mailing Standards for the Separation of Hazardous Materials.” Faxed comments are not accepted. All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review Monday through Friday, 9 a.m. and 4 p.m. by calling 202-268-2906.

FOR FURTHER INFORMATION CONTACT: Dale Kennedy, (202) 268-6592, or Jennifer Anderson, (202) 268-2108.

SUPPLEMENTARY INFORMATION:

Background

The Postal Service hereby amends Publication 52, Hazardous, Restricted, and Perishable Mail, with the provisions set forth herein. While not codified in title 39, Code of Federal Regulations (“CFR”), Publication 52 is a regulation of the Postal Service, and changes to it may be published in the Federal Register. 39 CFR 211.2(a)(2). Moreover, Publication 52 is incorporated by reference into Mailing Standards of the United States Postal Service, Domestic Mail Manual (“DMM”) section 601.8.1, which is incorporated by reference, in turn, into the Code of Federal Regulations. 39 CFR 111.1, 111.3. Publication 52 is publicly available, in a read-only format, via the Postal Explorer® website at https://pe.usps.com. In addition, links to Postal Explorer are provided on the landing page of USPS.com, the Postal Service's primary customer-facing website, and on Postal Pro, an online informational source available to postal customers.

Misrouted and mishandled HAZMAT can and does cause fires, spills, corrosion, and other dangers to personnel and equipment of the Postal Service, air carriers, and surface transportation providers, as well as to mailers' property and to aircraft passengers.

In particular, the increasing consumer use of lithium metal and lithium-ion batteries has brought a concomitant rise in fires and other dangerous incidents related to such batteries. The Federal Aviation Administration (FAA) has publicly reported 365 aviation incidents involving lithium batteries between January 23, 2006, and May 1, 2022, including a substantial number in just the most recent twelve months. FAA, Events with Smoke, Fire, Extreme Heat, or Explosion Involving Lithium Batteries, May 1, 2022, https://go.usa.gov/xusNT.¹

¹ The FAA notes that the publicly reported incidents do not represent all incidents reported to the FAA, let alone all such incidents at large.

The Pipeline and Hazardous Materials Safety Administration (PHMSA) has similarly reported a number of incidents involving mail between 2014 and 2021. See PHMSA, Incident Statistics, last updated Mar. 9, 2022, https://go.usa.gov/xJrSS. One-third of the PHMSA-reported mail incidents occurred on passenger aircraft; approximately half were discovered because of a thermal or release event; and more than half were discovered only after flight. A plurality of such items were Class 9 items such as lithium batteries, and many were ineligible for air transportation. Moreover, in recent compliance inspections, PHMSA investigators “routinely saw shippers and carriers improperly package and ship lithium batteries for disposal or recycling,” including “packaging lithium batteries in a way that did not prevent short circuits, mixing damaged lithium batteries with other batteries in the same packaging within shipments for disposal or recycling, and shipping pallet loads of batteries in boxes and drums with inappropriate identification of the packages' contents.” PHMSA, Safety Advisory Notice for the Disposal and Recycling of Lithium Batteries in Commercial Transportation 1-2, May 17, 2022, https://go.usa.gov/xJY3J.

Internal Postal Inspection Service data and anecdotal reports from commercial air-carrier partners over the last few years likewise indicate a consistent and alarming rise in incidents involving mailed packages of both lithium batteries and other HAZMAT, including flammable liquids, aerosols, and strike-anywhere matches. Incidents include unlabeled or improperly labeled air-ineligible HAZMAT being accepted for air transportation, as well as properly prepared air-ineligible HAZMAT that was improperly routed to air transportation because it was commingled with other mail and insufficiently visible to Postal Service personnel.

The FAA and PHMSA have issued standards for safe carriage of lithium batteries, including a prohibition on air transportation of damaged, defective, or recalled lithium batteries. See, e.g., 49 CFR 173.185. However, the determinants of hazard risk, such as damage, defects, state of charge, or packaging of batteries, are not outwardly apparent to Postal Service and other personnel handling packages. In other respects as well, safety depends on a shipper's awareness of and compliance with packaging, labeling, marking, and other HAZMAT shipping requirements. If a shipper does not make HAZMAT adequately visible to Postal Service personnel responsible for acceptance and sortation, then there is an unacceptably high risk that postal and air-carrier personnel will not know that the item warrants special handling and routing.

While many incidents involving HAZMAT in the mail are minor and controllable, the risk of a major threat to an aircraft—including, in particular, passenger aircraft—and other infrastructure and personnel is real, severe, and growing with the rise in lithium-battery and other hazardous shipments. By way of illustration, the U.S. Coast Guard (USCG) recently reported that on August 19, 2021, a shipping container loaded with discarded lithium batteries caught fire, with heat intense enough not only to destroy much of the cargo, but also to burn a hole in the container's structure itself. USCG, Marine Safety Alert: Lithium Battery Fire, Mar. 10, 2022, https://go.usa.gov/xJYxu. USCG noted that the incident would have been “catastrophic” if it had occurred after loading onto the container ship. The same could be said if a similar fire arose from discarded lithium batteries aboard passenger aircraft. It is imperative that the Postal Service undertake measures to reduce the risk to its operations and aviation safety.

On August 3, 2020, the Postal Service published a notice of proposed rulemaking regarding a proposed requirement to separate air-eligible HAZMAT from all other matter in a mailing. 85 FR 46575. The Postal Service received several comments on that notice, and it appreciates the valuable public input. In particular, multiple commenters expressed support for the proposition of separating HAZMAT from non-HAZMAT matter and for further improving the Postal Service's ability to ensure that air-ineligible HAZMAT is not inadvertently loaded onto air transportation. Further study and intervening events have made clear that the initial proposal would not be sufficiently effective to mitigate the risk that HAZMAT poses to other mail; postal and air-carrier equipment and personnel; commercial air passengers; and the public at large. In lieu of the earlier proposal, therefore, the Postal Service is adopting the three measures described herein and solicits public comment on the new measures.

Summary of New Measures

In addition to preexisting packaging, labeling, and marking requirements and other conditions for mailability, two conditions are necessary to ensure the proper handling and routing of HAZMAT.

The first condition is visibility: The Postal Service must be aware of HAZMAT shipments in order to accord them appropriate attention. A HAZMAT package can easily evade postal HAZMAT processing if it is nestled beneath non-HAZMAT packages in a bulk mail receptacle. To address this problem, the Postal Service will require mailers tendering a mix of HAZMAT and non-HAZMAT items to present them separately, including in separate mail receptacles with the exception of mail entered at a Destination Delivery Unit (DDU), Destination Sectional Center Facility (DSCF) or Destination Network Distribution Center (DNDC). In contrast with the 2020 proposed rule, customers are required to separate all HAZMAT from non-HAZMAT, rather than only air-eligible HAZMAT, from other mail. While visibility is important for air-eligible HAZMAT to ensure proper handling, it is also important that surface-only HAZMAT not be erroneously routed to air transportation due to commingling with non-HAZMAT. Separating all HAZMAT from non-HAZMAT will reduce the likelihood of commingling and increase the opportunity for Postal Service personnel to determine the proper procedures for any HAZMAT items presented.

The second condition is separation integrity: Once recognized, the Postal Service must ensure that HAZMAT is not commingled with non-HAZMAT, lest it be improperly handled or routed. Therefore, the Postal Service is directing personnel to keep HAZMAT items separate from non-HAZMAT items at all points in the mailstream.

This interim final rule also introduces specific labeling requirements for packages containing pre-owned, damaged, or defective electronic devices containing or packed with lithium batteries, and bars them from eligibility for any Postal Service product that makes routine use of air transportation. Among other things, mailings covered by the new requirements include used items sent pursuant to e-commerce or private sales transactions; lost items being returned to the owner; and items sent for repair, replacement, upgrade, warranty service, diagnostics, recycling, or insurance claims. For clarity, pre-owned electronic devices exclude those that are in new, unopened manufacturer packaging.

The Postal Service and its partner air carriers have identified pre-owned, damaged, and defective electronic devices containing lithium batteries as a particular and growing cause of lithium-battery incidents. Indeed, damaged, defective, and recalled lithium cells and batteries are already ineligible for air transportation. 49 CFR 173.185(f). Beyond devices with damage or defects to batteries themselves, such devices may also have other damage or defects that increase the chances of exposure and ignition of even an intact battery. Moreover, such devices are highly likely to be packaged without original packaging and have batteries in various conditions and varying states of charge. In contrast with new electronic devices in manufacturers' original packaging, consumers sending pre-owned, damaged, and defective electronic devices are less likely to be aware of HAZMAT requirements, let alone to comply with them.

As a result of these factors, lithium batteries in pre-owned, damaged, and defective electronic devices pose a particular hazard, as demonstrated by numerous incidents reported to the Postal Service as involving such items. To reduce the risk of such incidents occurring on air transportation, the Postal Service will restrict pre-owned, damaged, and defective electronic devices containing or packaged with lithium batteries to domestic products that use surface transportation. Consequently, such items will be prohibited in inbound and outbound international mail; mail to, from, and between overseas military and diplomatic addresses; and mail to, from, and within certain domestic locations for which the Postal Service lacks surface transportation. Moreover, to ensure adequate visibility, the Postal Service will require that packages containing pre-owned, damaged, and defective electronic devices containing or packaged with lithium batteries be marked “Restricted Electronic Device” and “Surface Transportation Only,” in addition to any other applicable markings.

As explained in the next section, the Postal Service has decided to implement these requirements immediately, due to the urgency of the danger to personnel, property, passengers, and the public. Nevertheless, the Postal Service is providing the public with a 30-day period for submission of comments on these changes. Following the 30-day public comment period, the Postal Service will review and consider comments received and then publish a further final rule responding to those comments and making any changes to this interim final rule.

Administrative Procedure Act

The Administrative Procedure Act (APA) does not ordinarily apply to Postal Service rulemakings. 39 U.S.C. 410(a). As a rare exception to that general rule, “proceedings concerning the mailability of matter under this chapter and chapters 71 and 83 of title 18” are extraordinarily subject to the APA. 39 U.S.C. 3001(m). Because the measures herein merely concern acceptance requirements, available services, and conditions of mailing for mailable matter, and do not concern the mailability of matter itself, they do not trigger the narrow exception for APA applicability.

Even if this notice were deemed to be subject to the APA, good cause would exist, under 5 U.S.C. 553(b)(B), to issue the measures through this interim final rule without prior notice and a prior opportunity for public comment and, under 5 U.S.C. 553(d)(3), to dispense with the delayed effective date ordinarily prescribed by the APA. Pursuant to section 553(b)(B) of the APA, general notice and the opportunity for public comment are not required with respect to a rulemaking when an “agency for good cause finds (and incorporates the finding and a brief statement of reasons therefor in the rules issued) that notice and public procedure thereon are impracticable, unnecessary, or contrary to the public interest.” The APA also requires a 30-day delayed effective date, except, as relevant here, “as . . . provided by the agency for good cause found and published with the rule.” 5 U.S.C. 553(d)(3).

The Postal Service finds that it would be impracticable and contrary to the public interest to delay issuance of this rule for the purpose of soliciting prior public comment because there is an immediate and pressing need to reduce the risks that HAZMAT poses to postal operations, supplier equipment and personnel, commercial air passengers, and the public. As described in the sections above, internal and public incident data and discussions with commercial air-carrier partners indicate an alarming rise in HAZMAT-related incidents in recent years. The rise in incidents concerns various forms of HAZMAT posing hazards to air transportation, including lithium batteries, flammable liquids and solids, and aerosols. As discussed in the preceding sections of this notice, pre-owned, damaged, and defective electronic devices containing or packaged with lithium batteries have been associated with a particular surge in fires and other incidents due to their compromised state, varying states of charge, lack of original packaging, and tender by consumers less likely to be aware of HAZMAT requirements than original equipment manufacturers and vendors. Any delay in implementation would intolerably increase the odds of a fire, explosion, or other catastrophic harm to personnel, property, passengers, and the public. Thus, delaying the implementation of the risk-mitigation measures in this interim final rule in order to receive and consider public comment would be impracticable and contrary to the public interest.² Immediate mitigation of these urgent safety risks also constitutes good cause for this interim rule to be effective immediately upon publication.

² See Jifry v. FAA, 370 F.3d 1174, 1179 (D.C. Cir. 2004) (upholding waiver of 5 U.S.C. 553(b)(B) based on Transportation Security Administration's determination that it was “necessary to prevent a possible imminent hazard to aircraft, persons, and property within the United States”); Hawaii Helicopter Operators Ass'n v. FAA, 51 F.3d 212, 214 (9th Cir. 1995) (same, where interim final rule was aimed at immediately mitigating “the threat to public safety reflected in an increasing number of helicopter accidents”).

Joshua J. Hofer,
Attorney, Federal Compliance.

The Postal Service adopts the following changes to Publication 52, Hazardous, Restricted, and Perishable Mail, incorporated by reference into Mailing Standards of the United States Postal Service, Domestic Mail Manual (DMM), section 601.8.1, which is further incorporated by reference in the Code of Federal Regulations. 39 CFR 111.1, 111.3. Publication 52 is also a regulation of the Postal Service, changes to which may be published in the Federal Register. 39 CFR 211.2(a). Accordingly, for the reasons stated in the preamble, the Postal Service amends Publication 52 as follows:

Publication 52, Hazardous, Restricted and Perishable Mail

* * * * *

2 General Guidelines

* * * * *

[Revise the title of subchapter 25 to read as follows:]

25 Basic Guidelines for Postal Service Personnel

* * * * *

251 Guidelines for Acceptance Personnel

[Add new item c, renumber current item c as item d, revise item e (as renumbered), and add new items f and g to read as follows:]

c. With the exception of mail entered at a Destination Delivery Unit (DDU), Destination Sectional Center Facility (DSCF), or Destination Network Distribution Center (DNDC) verify that all mailpieces containing mailable hazardous materials are presented separately from mailpieces not containing hazardous materials.

d. Refuse (as permitted in POM 139) to accept any material that does not meet the applicable requirements for mailing and refer the circumstances to your local Postmaster or PCSC for a mailability ruling under 213 or 215, as appropriate.

e. If a mailpiece containing a diagnostic (clinical) specimen is in a sack or tub, PS Tag 44 must be attached to ensure that the sack will be emptied at the processing point.

f. With the exception of mail entered at a DDU, DSCF, or DNDC ensure mailpieces containing hazardous materials remain separated from other mailpieces and are placed into labeled containers further separated by transportation type. See 327.1a and 327.1b.

g. See 253 for guidance regarding hazardous materials found in lobby drops or retail collection boxes.

* * * * *

252 Guidelines for Dispatch Personnel

[Insert new item b as follows, and renumber current item b as item c:]

b. Ensure that all mailpieces with a hazardous-materials mark or label are separated from all other mail and are placed into labeled containers further separated by transportation type. See 327.1a and 327.1b.

* * * * *

[Revise item 5 in item c (as renumbered) to read as follows:]

5. If the mailpiece contains a material believed to be nonmailable, remove it from the mailstream and treat it in accordance with POM 139.117-.118, as appropriate.

* * * * *

[Add new section 253 to read as follows:]

253 Guidelines for Delivery and Collection Personnel

Delivery and collection personnel must follow these procedures when delivering and collecting mail:

a. Conduct a thorough examination of all sides of the mailpiece for hazardous material labels and markings or any nonmailable hazardous characteristics (e.g., prohibited marks or labels). If the mailpiece is nonmailable, leaking or stained, do not collect it; notify the customer, if present; and contact your supervisor. Ensure that mailable hazardous materials are separate from all other mail upon loading on your vehicle and remains separated at all times.

* * * * *

3 Hazardous Materials

* * * * *

32 General

* * * * *

327 Transportation Requirements

* * * * *

327.1 General

[Revise item b to read as follows:]

b. Surface Transportation. All mailable hazardous materials eligible to be sent as USPS Marketing Mail, USPS Retail Ground, Parcel Select, or Parcel Return Service must be prepared under the requirements that apply to surface transportation. A mailpiece containing mailable hazardous material with postage paid at USPS Marketing Mail, USPS Retail Ground, Parcel Select, or Package Return Service prices must not, under any circumstance, be transported on air transportation.

* * * * *

327.2 Air Transportation Prohibitions

[Add new item g as follows, and renumber current item g as item h:]

g. Pre-owned, damaged, or defective electronic devices containing or packaged with lithium batteries (see 349.12e).

* * * * *

[Add new section 329 to read as follows:]

329 Presentation of Hazardous-Materials Mailings

With the exception of mail entered at a DDU, DSCF, or DNDC each mailer of mailable hazardous materials requiring a label or marking must:

a. Present such mailpieces separately from any mailpieces not containing hazardous materials. Where mailpieces are tendered in containers, pallets, or other mail transport equipment (see Handbook PO-502, Mail Transport Equipment), hazardous-materials mailpieces must be presented in a separate receptacle from non-hazardous-materials mailpieces.

b. Clearly mark an exterior side of all receptacles containing hazardous materials mailpieces as” HAZMAT”.

* * * * *

34 Mailability by Hazard Class

* * * * *

349 Miscellaneous Hazardous Materials (Hazard Class 9)

* * * * *

349.1 Definition

* * * * *

349.12 Lithium Battery—Definitions

[Add new item e as follows:]

e. Pre-owned, damaged, or defective electronic device means an electronic device containing or packaged with one or more lithium cells or batteries and where the electronic device (1) is not new and contained in new, unopened packaging and/or (2) that has some form of damage or defect.

* * * * *

349.2 Mailability

* * * * *

349.21 Nonmailable Class 9 Materials

[Add new item g and h to read as follows:]

g. Damaged, defective, or recalled batteries unless approved by the director, Product Classification (see 214 for address).

h. All pre-owned, damaged, or defective electronic devices in international mail or domestic air transportation.

* * * * *

Exhibit 349.222 Domestic Lithium Battery Mailability

[Add new footnote 1 reference to Air Transportation column, create new footnote text, and renumber existing references previously numbered as 1 through 7 to 2 through 8]

| Surface transportation | Air transportation ¹ | Mailpiece limitations ²
Lithium Metal or Lithium Alloy Batteries ³ ⁴
Small, non-rechargeable, consumer-type batteries
Contained in (properly installed in equipment) | Mailable | Mailable | 8 cells or 2 batteries, 11 lbs.
Packed with equipment, but not installed in the equipment | Mailable | Mailable | 8 cells or 2 batteries, 11 lbs.
Without the equipment they operate (individual batteries in originally sealed packaging) | Mailable | Prohibited | 5 lbs.
Lithium-ion or Lithium Polymer Batteries ⁵ ⁶
Small, rechargeable, consumer-type batteries
Contained in (properly installed in equipment) | Mailable | Mailable | 8 cells or 2 batteries.
Packed with equipment, but not installed in the equipment | Mailable | Mailable | 8 cells or 2 batteries.
Without the equipment they operate (individual batteries in originally sealed packaging) | Mailable | Prohibited | 5 lbs.
Without the equipment they operate (individual batteries in originally sealed packaging) (Intra-Alaska only) | (*) | Mailable | 8 cells or 2 batteries.
Very Small Lithium Metal or Lithium-ion Batteries ⁷ ⁸
Exception for very small consumer-type batteries in USPS air transportation
Contained in (properly installed in equipment) | Mailable | Mailable | No limit on cells/batteries 5.5 pounds.
Packed with equipment, but not installed in the equipment | Mailable | Mailable | No limit on cells/batteries 5.5 pounds.
Damaged, Defective, or Recalled Batteries | Prohibited, unless approved by the manager, Product Classification.
¹ Pre-owned, damaged, or defective electronic devices are prohibited from Air Transportation.
² When a mailpiece limitation of 8 cells or 2 batteries is applicable, a mailpiece may contain either 8 cells or 2 batteries, not both.
³ Each cell must not contain more than 1g lithium content.
⁴ Each battery must not contain more than 2g aggregate lithium content.
⁵ Each cell must not exceed more than 20 Wh (watt-hour rating).
⁶ Each battery must not exceed 100 Wh.
⁷ Each lithium metal or lithium alloy cell or battery must not exceed 0.3 gram of lithium content.
⁸ Each lithium-ion or lithium polymer cell or battery must not exceed 2.7 Wh.

6 International Mail

* * * * *

62 Hazardous Materials: International Mail

* * * * *

622 Mailable Hazardous Materials

* * * * *

622.5 Lithium and Lithium-ion Cells and Batteries—General

[Revise the first paragraph to read as follows:]

Only lithium batteries under 622.51 and 622.52 that are properly installed in the equipment they operate may be sent internationally or to and from an APO, FPO, or DPO location (subject to the conditions prescribed by the Department of Defense listed in Overseas Military/Diplomatic Mail in the Postal Bulletin). Damaged, defective, or recalled lithium batteries and pre-owned, damaged, or defective electronic devices containing or packaged with lithium batteries are prohibited and may not be mailed internationally or to and from APO, FPO, or DPO locations under any circumstances. See 349.21.

* * * * *

Exhibit 622.5 International Lithium Battery Mailability

[[Add new footnote 2 to International APO/FPO/DPO column, create new 2 footnote text, and renumber existing references previously numbered as 2 through 8 to 3 through 9]

| International APO/FPO/DPO ¹ ² | Mailpiece battery limit ³
Lithium Metal or Lithium Alloy Batteries ⁴ ⁵
Small, non-rechargeable, consumer-type batteries
Contained in (properly installed in equipment) | Mailable | Maximum of 4 cells or 2 batteries.
Packed with equipment, but not installed in the equipment | Prohibited
Without the equipment they operate (individual batteries in originally sealed packaging) | Prohibited
Lithium-ion or Lithium Polymer Batteries ⁶ ⁷
Small, rechargeable, consumer-type batteries
Contained in (properly installed in equipment) | Mailable | Maximum of 4 cells or 2 batteries.
Packed with equipment, but not installed in the equipment | Prohibited
Without the equipment they operate (individual batteries in originally sealed packaging) | Prohibited
Very Small Lithium Metal or Lithium-ion Batteries ⁸ ⁹
Exception for very small consumer-type batteries in international transportation
Contained in (properly installed in equipment) | Mailable | Maximum of 4 cells or 2 batteries.
Packed with equipment, but not installed in the equipment | Prohibited
Without the equipment they operate (individual batteries in originally sealed packaging) | Prohibited
¹ Unless otherwise prohibited by the international destination country or specific APO/FPO/DPO ZIP Code location.
² Damaged, defective, or recalled lithium batteries and pre-owned, damaged, or defective electronic devices containing or packaged with lithium batteries are prohibited and may not be mailed internationally or to and from APO, FPO, or DPO locations under any circumstances.
³ When a mailpiece limitation of 4 cells or 2 batteries is applicable, a mailpiece may contain either 4 cells or 2 batteries, not both.
⁴ Each lithium metal or lithium alloy cell must not contain more than 1g lithium content.
⁵ Each lithium metal or lithium alloy battery must not contain more than 2g of aggregate lithium content.
⁶ Each lithium-ion or lithium polymer cell must not exceed more than 20 Wh (watt-hour rating).
⁷ Each lithium-ion or lithium polymer battery must not exceed 100 Wh.
⁸ Each lithium metal or lithium alloy cell or battery must not exceed 0.3 gram of lithium content.
⁹ Each lithium-ion or lithium polymer cell or battery must not exceed a watt-hour rating of 2.7 Wh.

* * * * *

623 Nonmailable Hazardous Materials

[Add new items m and n as follows:]

m. All damaged, defective, or recalled lithium batteries (see 349.21).

n. All pre-owned, damaged, or defective electronic devices containing or packaged with lithium batteries (see 349.21).

* * * * *

Appendix C

* * * * *

USPS Packaging Instruction 9D

Lithium Metal and Lithium-Ion Cells and Batteries—Domestic

[Revise the first paragraph to read as follows:]

Except pursuant to 349.21, lithium metal (non-rechargeable) cells and batteries and lithium-ion (rechargeable) cells and batteries are mailable in limited quantities domestically via air or surface transportation when they are installed in or packed with the equipment they are intended to operate. Unless otherwise excepted, lithium metal and lithium-ion batteries (without equipment) are mailable in limited quantities domestically via surface transportation only. Lithium metal and lithium-ion batteries installed in or packed with pre-owned, damaged, or defective electronic devices meeting all mailability requirements in 349 are mailable via surface transportation only.

* * * * *

Mailability

[Revise the first bullet as follows:]

Lithium metal and lithium-ion cells and batteries installed in or packed with equipment (except for pre-owned, damaged, or defective electronic devices) are mailable via air or surface transportation.

* * * * *

[Add new fourth bullet to read as follows:]

Pre-owned, damaged, or defective electronic devices containing or packaged with lithium batteries (see 349.12e) must be mailed via domestic surface transportation only, provided they meet eligibility requirements in accordance with 349.

* * * * *

Markings

[Revise the first main bullet to read as follows:]

Lithium metal batteries properly installed in the equipment they are intended to operate (including pre-owned, damaged, or defective electronic devices):

* * * * *

[Revise the second main bullet to read as follows:]

Lithium metal batteries packed with the equipment they are intended to operate (including pre-owned, damaged, or defective electronic devices):

* * * * *

[Revise the fourth main bullet to read as follows:]

Lithium-ion batteries properly installed in the equipment they are intended to operate (including pre-owned, damaged, or defective electronic devices):

* * * * *

[Revise the fifth main bullet to read as follows:]

Lithium-ion batteries packed with the equipment they are intended to operate (including pre-owned, damaged, or defective electronic devices):

* * * * *

[Add new bullet at end of section to read as follows:]

Pre-owned, damaged, or defective electronic devices: In addition to any other applicable marking requirements listed above, packages containing pre-owned, damaged, or defective electronic devices containing or packaged with lithium batteries must be marked with the text “Restricted Electronic Device” and “Surface Transportation Only” on the address side of the package. See 221.1 and 325.1.

* * * * *

USPS Packaging Instruction 9E

Lithium Metal and Lithium-Ion Cells and Batteries—International and APO/FPO/DPO

* * * * *

Mailability

[Add third and fourth bullets to read as follows:]

Pre-owned, damaged, and defective electronic devices containing or packaged with lithium batteries are prohibited (see 623).

Lithium batteries that are packed with equipment, lithium batteries sent separately from equipment, or lithium batteries installed in equipment they intend to operate that are damaged, defective, or recalled batteries are prohibited (see 623).

* * * * *

[FR Doc. 2022-12003 Filed 6-1-22; 11:15 am]

BILLING CODE 7710-12-P